INTERNATIONAL TRADE COMMISSION

[Investigation No. 731-TA-1020 (Second Review)]

Barium Carbonate From China

Determination

On the basis of the record ¹ developed in the subject five-year review, the United States International Trade Commission (“Commission”) determines, pursuant to section 751(c) of the Tariff Act of 1930 (19 U.S.C. 1675(c)), that revocation of the antidumping duty order on barium carbonate from China would be likely to lead to continuation or recurrence of material injury to an industry in the United States within a reasonably foreseeable time.

¹ The record is defined in sec. 207.2(f) of the Commission's Rules of Practice and Procedure (19 CFR 207.2(f)).

Background

The Commission instituted this review on February 3, 2014 (79 FR 6219) and determined on May 9, 2014 that it would conduct a full review (79 FR 29454, May 22, 2014). Notice of the scheduling of the Commission's review and of a public hearing to be held in connection therewith was given by posting copies of the notice in the Office of the Secretary, U.S. International Trade Commission, Washington, DC, and by publishing the notice in the Federal Register on August 1, 2014 (79 FR 44864). The hearing was cancelled at the request of the domestic interested party.

The Commission completed and filed its determination in this review on February 2, 2015. The views of the Commission are contained in USITC Publication 4518 (February 2015), entitled Barium Carbonate from China: Investigation No. 731-TA-1020 (Second Review).

By order of the Commission.
Issued: February 2, 2015.
Lisa R. Barton,
Secretary to the Commission.

[FR Doc. 2015-02341 Filed 2-5-15; 8:45 am]

BILLING CODE 7020-02-P